DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section.

FOR FURTHER INFORMATION CONTACT: OFAC: Associate Director for Global Targeting, tel.: 202-622-2420; Assistant Director for Sanctions Compliance & Evaluation, tel.: 202-622-2490; Assistant Director for Licensing, tel.: 202-622-2480; Assistant Director for Regulatory Affairs, tel. 202-622-4855; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (www.treasury.gov/ofac).

Notice of OFAC Action(s)

On March 19, 2018, OFAC's Director determined that the property and interests in property of the following persons are blocked pursuant to Executive Order 13692 of March 8, 2015, “Blocking Property and Suspending Entry of Certain Persons Contributing to the Situation in Venezuela” (E.O. 13692). The OFAC Director designated each of these persons under section 1(a)(ii)(C) of E.O. 13692 for being a current or former official of the Government of Venezuela.

Individuals

1. CONTRERAS, Willian Antonio (a.k.a. CONTRERAS, William), Capital District, Venezuela; DOB 17 Aug 1968; citizen Venezuela; Gender Male; Cedula No. 9953939 (Venezuela); Passport 041067710 (Venezuela) expires 12 Jan 2016; Vice Minister of Internal Commerce, within the Ministry of Popular Power of Economy and Finance; National Superintendent for the Defense of Socioeconomic Rights (SUNDDE) (individual) [VENEZUELA]. Designated pursuant to section 1(a)(ii)(C) of E.O. 13692 for being a current or former official of the Government of Venezuela.

2. LEPAJE SALAZAR, Nelson Reinaldo, Aragua, Venezuela; DOB 24 Apr 1969; citizen Venezuela; Gender Male; Cedula No. 10049353 (Venezuela); Passport 064906043 (Venezuela) expires 12 Jan 2016; alt. Passport 009551291 (Venezuela) expires 04 Mar 2013; Acting in the Capacity of the Head of the Office of the National Treasury (individual) [VENEZUELA]. Designated pursuant to section 1(a)(ii)(C) of E.O. 13692 for being a current or former official of the Government of Venezuela.

3. MATA GARCIA, Americo Alex (Latin: MATA GARCÍA, Américo Alex) (a.k.a. MATA, Americo (Latin: MATA, Américo)), Miranda, Venezuela; DOB 02 Jan 1976; citizen Venezuela; Gender Male; Cedula No. 12711021 (Venezuela); Passport C1506013 (Venezuela); Alternate Director on the Board of Directors of the National Bank of Housing and Habitat; Former Vice Minister of Agricultural Economics; Former President of the Agricultural Bank of Venezuela (individual) [VENEZUELA]. Designated pursuant to section 1(a)(ii)(C) of E.O. 13692 for being a current or former official of the Government of Venezuela.

4. ROTONDARO COVA, Carlos Alberto (a.k.a. ROTONDARO COVA, Carlos; a.k.a. ROTONDARO, Carlos), Capital District, Venezuela; DOB 11 Sep 1965; citizen Venezuela; Gender Male; Cedula No. 6157070 (Venezuela); Passport 083445280 (Venezuela) expires 29 Jan 2019; alt. Passport 022740782 (Venezuela) expires 24 May 2014; Former President of the Board of Directors of the Venezuelan Institute of Social Security (IVSS) (individual) [VENEZUELA]. Designated pursuant to section 1(a)(ii)(C) of E.O. 13692 for being a current or former official of the Government of Venezuela.

Dated: September 7, 2018.
Andrea M. Gacki,
Acting Director, Office of Foreign Assets Control.

[FR Doc. 2018-19818 Filed 9-11-18; 8:45 am]

BILLING CODE 4810-AL-P